DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of State Government Research and Development.

OMB Control Number: 0607-0933.

Form Number(s): Survey Frame Review Module; SRD-1 (State Agency Web Form).

Type of Request: Revision of a currently approved collection.

Number of Respondents: 604.

Average Hours per Response: 1 hour and 45 minutes.

Burden Hours: 1,056.

Needs and Uses: The Census Bureau is requesting clearance to conduct the Survey of State Government Research and Development (SGRD) for the 2016-2018 survey years with the revisions outlined in this document. The Census Bureau conducts this survey on behalf of the National Science Foundation's (NSF) National Center for Science and Engineering Statistics (NCSES). The NSF Act of 1950 includes a statutory charge to “provide a central clearinghouse for the collection, interpretation, and analysis of data on scientific and engineering resources and to provide a source of information for policy formulation by other agencies in the Federal Government.” Under the aegis of this legislative mandate, NCSES and its predecessors have sponsored surveys of research and development (R&D) since 1953, including the SGRD since 2006. This survey has helped to expand the scope of R&D collections to include state governments, where previously there had been no regularly established collection efforts, and thus a gap in the national portfolio of R&D statistics.

NCSES sponsors surveys of R&D activities of Federal agencies, higher education institutions, and private industries. The results of these surveys provide a consistent information base for both federal and state government officials, industry professionals, and researchers to use in formulating public policy and planning in science and technology. These surveys allow for the analysis of current and historical trends of R&D in the U.S. and in international comparisons of R&D with other countries. The data collected from the SGRD fills a void that previously existed for collection of R&D activities. Although NCSES conducted periodic data collections of state government R&D in 1995, 1988 and 1987, more frequent collection was necessary to account for the changing dynamic of state governments' role in performing and funding R&D and their role as fiduciary intermediaries of federal funds for R&D. The survey is a census of state government departments, agencies, commissions, public authorities, and other dependent entities as defined by the Census Bureau's Census of Governments program, that performed or funded R&D activities in a given fiscal year.

The Census Bureau, serving as collection agent, employs a methodology similar to the one used to collect information from state and local governments on other established censuses and surveys. This methodology involves identifying a central coordinator in each state who will assist Census Bureau staff in identifying appropriate state agencies to be surveyed. Since not all state agencies have the budget authority or operational capacity to perform or fund R&D, NCSES and Census Bureau staffs have identified those agencies most likely to perform or fund R&D based on state session laws, authorizing legislation, budget authority, previous R&D activities, and reports issued by state government agencies. The state coordinators, based on their knowledge of the state government's own activities and priorities, are asked to confirm which of the selected agencies identified should be sent the survey for a given fiscal year or to add additional agencies to the survey frame. These state coordinators also verify the final responses at the end of the data collection cycle and may assist with nonresponse follow-up with individual state agencies. The collection approach using a central state coordinator is used successfully at the Census Bureau in surveys of local school districts, as well as the annual surveys of state and local government finance.

As part of the President's FY 2014 Budget Request to Congress, the Office of Management and Budget (OMB) recommended NCSES receive an additional “$500,000 to increase the frequency of the Survey of State Government Research and Development.” Starting with the FY 2016 survey cycle, NCSES will collect data on an annual basis instead of a biennial format that was used for state government fiscal years 2010 and 2011, 2012 and 2013, and 2014 and 2015. This change from biennial to annual collection will increase the frequency and timeliness of survey results; thus increasing the utility of the statistics for data users, including the Bureau of Economic Analysis and the state governments themselves, while also allowing for the annual inclusion of these data in NCSES's own National Patterns of R&D report. Currently, NCSES must develop estimates for the non-Federal government component of the National Patterns data during the survey's off-year. Increasing the frequency by changing to an annual data collection cycle will allow for more accurate National Patterns of R&D. Results from the National Patterns are used by OMB during the budget formulation process, as well as by the Office of Science and Technology Policy (OSTP), and others interested in science and technology investments, and international competitiveness of R&D.

The 2016 survey will follow the same content that was collected during the FY 2014 and FY 2015 Survey of State Government R&D.

The survey announcements and forms used in the SGRD are:

Survey Announcement. The Governor's letter is mailed to the Governor's Office to announce the survey collection and to solicit assignment of a State Coordinator. The State Coordinator's Announcement is sent electronically at the beginning of each survey period to solicit assistance in identifying state agencies which may perform or fund R&D activities. Later, state coordinators are asked to review final data submitted by state agencies.

Form SRD-1. This form contains item descriptions and definitions of the research and development items collected by the Census Bureau on behalf of the NSF. It is used primarily as a worksheet and instruction guide by the state agencies. All state agencies supply their data by electronic means.

Final survey results produced by NCSES contain state and national estimates and are useful to a variety of data users interested in R&D performance, including: The National Science Board; the OMB; the Office of Science and Technology Policy (OSTP) and other science policy makers; institutional researchers; and private organizations; and many state governments.

Legislators, policy officials, and researchers rely on statistics to make informed decisions about R&D investment at the Federal, state, and local level. These statistics are derived from the existing NCSES sponsored surveys of Federal agencies, higher education institutions, and private industry. The total picture of R&D expenditures, however, had been incomplete due to the lack of data from state governments prior to this implementation of the SGRD in 2006, which now fills that void.

State government officials and policy makers garner the most benefit from the results of this survey. Governors and legislatures need a reliable, comprehensive source of data to help in evaluating how best to attract the high-tech R&D industries to their state. Officials are able to evaluate their investment in R&D based on comparisons with other states. These comparisons include the sources of funding, the type of R&D being conducted, and the type of R&D performer.

State governments serve a unique role within the national portfolio of R&D. Not only are they both performers and funders of R&D like other sectors such as the Federal Government, higher education, or industry, but they also serve as fiduciary intermediaries between the Federal Government and other R&D performers while also providing state specific funds for R&D. The information collected from the SGRD provides data users with perspective on this complex flow of funds. Survey results are used at the Federal level to assess and direct investment in technology and economic issues. Congressional committees and the Congressional Research Service use results of the R&D surveys. The BEA uses these data to estimate the contribution of state agency-funded R&D to the overall impact of treating R&D as an investment in BEA's statistics of gross domestic product by state-area.

NSF also uses data from this survey in various publications produced about the state of R&D in the U.S. The Science and Engineering Indicators, for example, is a biennial report mandated by Congress and describes quantitatively the condition of the country's R&D efforts, and includes data from the SGRD. Survey results are also included in the National Patterns of Research and Development report's tabulations.

The availability of state R&D survey results are posted to NSF's Web page allowing for public access from a variety of other data users as well. Media, university researchers, nonprofit organizations, and foreign government officials are also consumers of state R&D statistics. All users are able to utilize this information in an attempt to better understand the Nation's R&D resources.

Affected Public: State, local, or tribal government.

Frequency: Annually.

Respondent's Obligation: Voluntary.

Legal Authority: Title 13, United States Code, Sections 8(b) and Title 42, United States Code, Sections 1861-76 (National Science Foundation Act of 1950, as amended).

This information collection request may be viewed at www.reginfo.gov. Follow the instructions to view Department of Commerce collections currently under review by OMB.

Written comments and recommendations for the proposed information collection should be sent within 30 days of publication of this notice to OIRA_Submission@omb.eop.gov or fax to (202) 395-5806.

Dated: March 2, 2016.
Glenna Mickelson,
Management Analyst, Office of the Chief Information Officer.

[FR Doc. 2016-04993 Filed 3-4-16; 8:45 am]

BILLING CODE 3510-07-P